ENVIRONMENTAL PROTECTION AGENCY

[FRL-9277-5]

Science Advisory Board Staff Office; Notification of a Public Teleconference of the Air Monitoring and Methods Subcommittee

AGENCY: Environmental Protection Agency (EPA).

ACTION: Notice.

SUMMARY: The Environmental Protection Agency (EPA or Agency) Science Advisory Board (SAB) Staff Office announces a public teleconference of the Clean Air Scientific Advisory Committee (CASAC) Air Monitoring and Methods Subcommittee (AMMS) to discuss the AMMS draft report on EPA's draft monitoring documents for Oxides of Nitrogen (NOX) and Sulfur (SOx).

DATES: A public teleconference will be held on Tuesday, March 29, 2011 from 1 p.m. to 3 p.m. (Eastern Time).

ADDRESSES: The public teleconference will be conducted by telephone only.

FOR FURTHER INFORMATION CONTACT: Any member of the public wishing further information regarding this Notice and public teleconference may contact

Mr. Edward Hanlon, Designated Federal Officer (DFO), SAB Staff Office, by telephone/voice mail at (202) 564-2134; by fax at (202) 565-2098 or via e-mail at hanlon.edward@epa.gov. General information concerning the EPA CASAC can be found at the EPA CASAC Web site at http://www.epa.gov/casac. Any inquiry regarding EPA's draft monitoring documents for NOX and SOX should be directed to Dr. Richard Scheffe, EPA Office of Air Quality Planning and Standards (OAQPS), at scheffe.rich@epa.gov or 919-541-4650.

SUPPLEMENTARY INFORMATION: Background: The CASAC was established pursuant to the under the Clean Air Act (CAA) Amendments of 1977, codified at 42 U.S.C. 7409D(d)(2), to provide advice, information, and recommendations to the Administrator on the scientific and technical aspects of issues related to the criteria for air quality standards, research related to air quality, sources of air pollution, and the strategies to attain and maintain air quality standards and to prevent significant deterioration of air quality. The CASAC is a Federal Advisory Committee chartered under the Federal Advisory Committee Act (FACA), 5 U.S.C., App. 2. Pursuant to FACA and EPA policy, notice is hereby given that the CASAC AMMS CASAC AMMS will hold a public teleconference to discuss the Subcommittee's draft peer review report of the EPA's draft monitoring documents for NOX and SOX.

The AMMS met on February 16, 2011 to review EPA's draft monitoring documents for NOX and SOX and proposed methods for assessing levels of nitrogen and sulfur deposition. [Federal Register Notice dated January 25, 2011 (76 FR 4346)]. Materials from the February 2011 meeting are posted on the SAB Web site at http://yosemite.epa.gov/sab/sabproduct.nsf/bf498bd32a1c7fdf85257242006dd6cb/eea38cc34cc1f86f8525781d005866e6!OpenDocument&Date=2011-02-16. The purpose of the March 29, 2011 teleconference call is for the AMMS to discuss its draft peer review report.

Availability of Meeting Materials: The agenda and materials in support of this teleconference call will be placed on the EPA CASAC Web site at http://www.epa.gov/casac in advance of the teleconference call.

Procedures for Providing Public Input: Interested members of the public may submit relevant written or oral information on the topic of this advisory activity for the CASAC to consider during the advisory process. Oral Statements: In general, individuals or groups requesting an oral presentation at this public teleconference will be limited to three minutes per speaker. Interested parties should contact Mr. Edward Hanlon, DFO, in writing (preferably via e-mail), at the contact information noted above, by March 22, 2011 to be placed on the list of public speakers for the teleconference. Written Statements: Written statements should be received in the SAB Staff Office by March 22, 2011 so that the information may be made available to the CASAC AMMS for their consideration. Written statements should be supplied to the DFO in the following formats: one hard copy with original signature, and one electronic copy via e-mail (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Mr. Edward Hanlon at the phone number or e-mail address noted above, preferably at least ten days prior to the meeting, to give EPA as much time as possible to process your request.

Dated: March 2, 2011.
Anthony F. Maciorowski,
Deputy Director, EPA Science Advisory Board Staff Office.

[FR Doc. 2011-5202 Filed 3-7-11; 8:45 am]

BILLING CODE 6560-50-P